DEPARTMENT OF TRANSPORTATION

Maritime Administration

U.S. Maritime Transportation System National Advisory Committee (MTSNAC)

AGENCY: Maritime Administration (MARAD), U.S. Department of Transportation (DOT).

ACTION: Notice; solicitation of nominations for membership.

SUMMARY: DOT solicits nominations for membership to serve on the U.S. Maritime Transportation System National Advisory Committee (MTSNAC), which is intended to advise the Secretary of Transportation on matters relating to the U.S. maritime transportation system and its seamless integration with other segments of the transportation system.

DATES: The deadline for nominations for Committee members must be received on or before October 17, 2025.

ADDRESSES: Interested candidates may submit nominations by one of the following methods:

• Email: MTSNAC@dot.gov, subject line: MTSNAC Nomination.

• Mail: MTSNAC Designated Federal Officer, U.S. Department of Transportation, 1200 New Jersey Avenue SE, Washington, DC 20590, please include name, mailing address and telephone number.

FOR FURTHER INFORMATION CONTACT: Marlise Fratinardo, Designated Federal Officer, Office of Ports & Waterways Planning, Maritime Administration, marlise.fratinardo@dot.gov, (312) 259-1529.

SUPPLEMENTARY INFORMATION: On January 18, 2011, MTSNAC was established by the Secretary in accordance with 46 U.S.C. 50402, and it is operated in accordance with the Federal Advisory Committee Act, 5 U.S.C. ch. 10. The purpose of MTSNAC is to advise the Secretary on matters relating to the U.S. maritime transportation system and its seamless integration with other segments of the transportation system.

In particular, MTSNAC advises on matters related to strengthening U.S. maritime capabilities essential to national security and economic prosperity, ensuring workforce availability, supporting the performance of port infrastructure, and enabling innovation. The Committee will be continuing, but subject to renewal every two years. The Committee is expected to meet at least three times per fiscal year. Unless otherwise required by law or approved by the Secretary, all meetings will be held virtually.

In this notice, DOT is soliciting nominations for membership to the Committee. The Committee shall report to the Secretary through the Maritime Administrator and comprise 27 members, representing Federal agency representatives, State and local government representatives, and private sector representatives from maritime industries, ports, labor, and academia with expertise in the maritime transportation system. Members are appointed by the Secretary. Members will serve two-year terms but may be reappointed. Past members of the advisory committee are welcome to apply. DOT is interested in ensuring membership is balanced fairly in terms of the points of view represented and the functions to be performed by the advisory committee.

Process and Deadline for Submitting Nominations: Qualified individuals can self-nominate or be nominated by any individual or organization. To be considered for MTSNAC, nominators should submit the following information:

(1) Name, title, and relevant contact information (including phone, fax, and email address) of the individual requesting consideration;

(2) A letter of support from a company, union, trade association, academic, or nonprofit organization on letterhead containing a brief description why the nominee should be considered for membership;

(3) A short biography of nominee, including professional and academic credentials; and

(4) An affirmative statement that the nominee meets all Committee eligibility requirements.

Please do not send company, trade association, or organization brochures or any other information. Materials submitted should total two pages or less. Should more information be needed, DOT staff will contact the nominee, obtain information from the nominee's past affiliations, or obtain information from publicly available sources, such as the internet.

Nominations must be received before October 17, 2025. Nominees selected for appointment to the Committee will be notified by return email and by a letter of appointment.

(Authority: 46 U.S.C. 50402, 49 CFR 1.93(a).)

By Order of the Maritime Administration.
T. Mitchell Hudson, Jr.,
Secretary, Maritime Administration.

[FR Doc. 2025-18006 Filed 9-16-25; 8:45 am]

BILLING CODE 4910-81-P